DEPARTMENT OF ENERGY

Federal Energy Regulatory Commission

Combined Notice of Filings #1

Take notice that the Commission received the following electric corporate filings:

Docket Numbers: EC15-55-000.

Applicants: American Transmission Company LLC.

Description: Application for Authority to Acquire Transmission Facilities under Section 203 of the FPA of American Transmission Company LLC.

Filed Date: 12/19/14.

Accession Number: 20141219-5437.

Comments Due: 5 p.m. ET 1/9/15.

Take notice that the Commission received the following electric rate filings:

Docket Numbers: ER10-3079-008.

Applicants: Tyr Energy, LLC.

Description: Triennial Market Power Report for the Southeast Region of Tyr Energy, LLC.

Filed Date: 12/19/14.

Accession Number: 20141219-5439.

Comments Due: 5 p.m. ET 2/17/15.

Docket Numbers: ER15-515-001.

Applicants: Great Bay Energy VII, LLC.

Description: Tariff Amendment per 35.17(b): Amendment to 1 to be effective 12/1/2014.

Filed Date: 12/19/14.

Accession Number: 20141219-5356.

Comments Due: 5 p.m. ET 1/2/15.

Docket Numbers: ER15-612-000.

Applicants: Moore Energy, LLC.

Description: Report Filing: Supplement Filing to be effective N/A.

Filed Date: 12/19/14.

Accession Number: 20141219-5361.

Comments Due: 5 p.m. ET 1/9/15.

Docket Numbers: ER15-681-000.

Applicants: PacifiCorp.

Description: Tariff Withdrawal per 35.15: Idaho Power Cancellation of Legacy Agreements to be effective 12/31/9998.

Filed Date: 12/19/14.

Accession Number: 20141219-5355.

Comments Due: 5 p.m. ET 1/9/15.

Docket Numbers: ER15-682-000.

Applicants: PacifiCorp.

Description: § 205(d) rate filing per 35.13(a)(2)(iii): Idaho Power MOU to be effective 2/17/2015.

Filed Date: 12/19/14.

Accession Number: 20141219-5357.

Comments Due: 5 p.m. ET 1/9/15.

Docket Numbers: ER15-683-000.

Applicants: Idaho Power Company.

Description: § 205(d) rate filing per 35.13(a)(2)(iii): Legacy Agreements Replacement Transaction to be effective 12/31/9998.

Filed Date: 12/19/14.

Accession Number: 20141219-5360.

Comments Due: 5 p.m. ET 1/9/15.

Docket Numbers: ER15-684-000.

Applicants: Midcontinent Independent System Operator, Inc.

Description: § 205(d) rate filing per 35.13(a)(2)(iii): 2014-12-19 ELMP Clarification Filing to be effective 3/1/2015.

Filed Date: 12/19/14.

Accession Number: 20141219-5362.

Comments Due: 5 p.m. ET 1/9/15.

Docket Numbers: ER15-685-000.

Applicants: Midcontinent Independent System Operator, Inc.

Description: § 205(d) rate filing per 35.13(a)(2)(iii): 2014-12-19 ELMP True-Up Filing to be effective 3/1/2015.

Filed Date: 12/19/14.

Accession Number: 20141219-5363.

Comments Due: 5 p.m. ET 1/9/15.

Docket Numbers: ER15-686-000.

Applicants: Idaho Power Company.

Description: Tariff Withdrawal per 35.15: Legacy Transaction Cancellations to be effective 12/31/9998.

Filed Date: 12/19/14.

Accession Number: 20141219-5364.

Comments Due: 5 p.m. ET 1/9/15.

Docket Numbers: ER15-687-000.

Applicants: Idaho Power Company.

Description: § 205(d) rate filing per 35.13(a)(2)(iii): Jefferson Line Memorandum of Understanding Concurrence to be effective 2/18/2015.

Filed Date: 12/22/14.

Accession Number: 20141222-5000.

Comments Due: 5 p.m. ET 1/12/15.

Docket Numbers: ER15-688-000.

Applicants: Entergy Mississippi, Inc.

Description: § 205(d) rate filing per 35.13(a)(2)(iii): Settlement and Updated Reimbursement Agreement Under ER13-769 to be effective 12/19/2013.

Filed Date: 12/22/14.

Accession Number: 20141222-5063.

Comments Due: 5 p.m. ET 1/12/15.

Docket Numbers: ER15-689-000.

Applicants: Duke Energy Florida, Inc., Duke Energy Carolinas, LLC.

Description: § 205(d) rate filing per 35.13(a)(2)(iii): CWIP Filing December 2014 (See Docket ER15-234) to be effective 12/29/2014.

Filed Date: 12/22/14.

Accession Number: 20141222-5108.

Comments Due: 5 p.m. ET 1/12/15.

Docket Numbers: ER15-690-000.

Applicants: American Transmission Systems, Incorporated, West Penn Power Company, The Potomac Edison Company, Monongahela Power Company, Jersey Central Power & Light, Metropolitan Edison Company, PJM Interconnection, L.L.C.

Description: § 205(d) rate filing per 35.13(a)(2)(iii): American Transmission System, Inc. et al. Filing of New Service Agreements to be effective 2/22/2015.

Filed Date: 12/22/14.

Accession Number: 20141222-5115.

Comments Due: 5 p.m. ET 1/12/15.

Docket Numbers: ER15-691-000.

Applicants: Midcontinent Independent System Operator, Inc.

Description: Request for Waiver of Midcontinent Independent System Operator, Inc.

Filed Date: 12/19/14.

Accession Number: 20141219-5440.

Comments Due: 5 p.m. ET 1/9/15.

Take notice that the Commission received the following foreign utility company status filings:

Docket Numbers: FC15-2-000.

Applicants: Massif du Sud Wind Project GP Inc.

Description: Self-Certification of Massif du Sud Wind Project GP Inc.

Filed Date: 12/18/14.

Accession Number: 20141218-5359.

Comments Due: 5 p.m. ET 1/8/15.

Docket Numbers: FC15-3-000.

Applicants: Saint Robert Bellarmin Wind Project GP I.

Description: Self-Certification of Saint Robert Bellarmin Wind Project GP Inc.

Filed Date: 12/18/14.

Accession Number: 20141218-5360.

Comments Due: 5 p.m. ET 1/8/15.

Docket Numbers: FC15-4-000.

Applicants: FuelCell Energy, Ltd.

Description: Self-Certification of FuelCell Energy, Ltd.

Filed Date: 12/18/14.

Accession Number: 20141218-5361.

Comments Due: 5 p.m. ET 1/8/15.

Take notice that the Commission received the following PURPA 210(m)(3) filings:

Docket Numbers: QM15-1-000.

Applicants: Virginia Electric and Power Company.

Description: Responses to November 25, 2014 Deficiency Letter of Virginia Electric and Power Company.

Filed Date: 12/19/14.

Accession Number: 20141219-5441.

Comments Due: 5 p.m. ET 1/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2014.
Nathaniel J. Davis, Sr.,
Deputy Secretary.

[FR Doc. 2014-30622 Filed 12-30-14; 8:45 am]

BILLING CODE 6717-01-P